ARCHITECTURAL AND TRANSPORTATION BARRIERS COMPLIANCE BOARD

36 CFR Part 1195

[Docket No. 2004-1]

RIN 3014-AA11

Americans With Disabilities Act (ADA) Accessibility Guidelines for Passenger Vessels

AGENCY: Architectural and Transportation Barriers Compliance Board.

ACTION: Reopening of comment period.

SUMMARY: The Architectural and Transportation Barriers Compliance Board (Access Board) had placed in the docket and on its Web site for public review and comment draft guidelines on accessibility for passenger vessels which are permitted to carry more than 150 passengers or more than 49 overnight passengers, all ferries regardless of size and passenger capacity, and certain tenders which carry 60 or more passengers. The comment period closed on September 5, 2006. This document reopens the comment period for an additional 60 days.

DATES: Comments on the draft guidelines must be received by November 13, 2006. Late comments will be considered to the extent practicable.

ADDRESSES: You may submit comments on the draft guidelines, identified by Docket No. 2004-1, by any of the following methods:

Federal eRulemaking Portal: http://www.regulations.gov. Follow the instructions for submitting comments.

E-mail: pvag@access-board.gov. Include Docket No. 2004-1 in the subject line of the message.

Fax: (202) 272-0081.

Mail or Hand Delivery: Office of Technical and Information Services, Architectural and Transportation Barriers Compliance Board, 1331 F Street NW., suite 1000, Washington, DC 20004-1111.

Comments will be available for inspection at the above address from 9 a.m. to 5 p.m. on regular business days.

FOR FURTHER INFORMATION CONTACT: Paul Beatty, Office of Technical and Information Services, Architectural and Transportation Barriers Compliance Board, 1331 F Street, NW., suite 1000, Washington DC 20004-1111. Telephone number (202) 272-0012 (voice); (202) 272-0082 (TTY); Electronic mail address: pvag@access-board.gov.

SUPPLEMENTARY INFORMATION: On July 7, 2006, the Architectural and Transportation Barriers Compliance Board (Access Board) placed in the docket and on its Web site for public review and comment draft guidelines which address accessibility to and in passenger vessels which are permitted to carry more than 150 passengers or more than 49 overnight passengers. (71 FR 38563, July 7, 2006). In addition, the draft addresses all ferries regardless of size and passenger capacity, and certain tenders which carry 60 or more passengers. The comment period closed on September 5, 2006.

The Board received two requests for an extension of the comment period from the passenger vessel industry to further review the detailed guidelines and provide in-depth comments. As a result, the Board has reopened the time for filing comments by an additional 60 days. The Board believes that the extension of time for comments will give the public a better opportunity to provide input on the draft guidelines.

James J. Raggio,
General Counsel.

[FR Doc. E6-15062 Filed 9-11-06; 8:45 am]

BILLING CODE 8150-01-P